DEPARTMENT OF JUSTICE

Notice of Lodging of Consent Decree Under the Clean Water Act

Pursuant to 28 CFR 50.7, notice is hereby given that on June 12, 2003, a proposed Consent Decree (“Consent Decree”) in United States v. City of Rock Island, Illinois et al., Civil Action No. 00 C 4076 was lodged with the United States District Court for the Central District of Illinois.

The United States' complaint in this action asserts claims against the City of Rock Island (“City”) for injunctive relief and civil penalties for violations of the Clean Water Act, 33 U.S.C. 1251 et seq. (the “Act”), and a National Pollutant Discharge Elimination System Permit regulation discharges of pollutants into surface waters from the City's publicly owned treatment works (“POTW”). The State of Illinois is also named as a defendant, pursuant to Section 309(e) of the Act, 33 U.S.C. 1319(e).

The proposed Consent Decree requires the City to comply with effluent limitations and all other requirements of the City's NPDES permit. In addition, the Consent Decree requires the City to develop and implement a Long Term Control Plan for insuring that combined sewer overflows (“CSO's”) from the POTW comply with the requirements of Rock Island's NPDES permit, the Clean Water Act, and the objectives of U.S. EPA's April 19, 1994 CSO Policy. Pursuant to the Long Term Control Plan, the City will complete specified studies and assessments, evaluate alternatives for eliminating, treating or reducing CSO discharges, and implement discharge control measures approved by the United States Environmental Protection Agency. Under the proposed Consent Decree the City will also pay a civil penalty of $64,800 and expend at least $60,550 to implement a Supplement Environmental Project that will mitigate adverse effects of stormwater run-off on surface water bodies, improve habitat conditions in the area where the SEP is performed.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. City of Rock Island, et al., D.J. Ref. 90-5-1-1-06489.

The proposed Consent Decree may be examined at the Office of the United States Attorney, Star Cres Building, Third Floor, 11830 Second Avenue, Rock Island, Illinois 61201, and at U.S. EPA Region 5, 77 West Jackson Boulevard, Chicago, IL 60604. During the public comment period, the proposed Consent Decree may also be examined on the following Department of Justice web site: http://www.usdoj.gov/enrd/open.html. A copy of the proposed Consent Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting a copy, please enclose a check in the amount of $14.75 (25 cents per page reproduction cost) payable to the U.S. Treasury.

William D. Brighton,
Assistant Chief, Environmental Enforcement Section, Environment and Natural Resources Division.

[FR Doc. 03-15442 Filed 6-18-03; 8:45 am]

BILLING CODE 4410-15-M